DEPARTMENT OF TRANSPORTATION

Federal Aviation Administration

14 CFR Part 39

[Docket No. 99-NM-26-AD; Amendment 39-11902; AD 2000-19-01]

RIN 2120-AA64

Airworthiness Directives; Bombardier Model CL-600-1A11 (CL-600) and CL-600-2A12 (CL-601) Series Airplanes

AGENCY: Federal Aviation Administration, DOT.

ACTION: Final rule; correction.

SUMMARY: This document corrects a typographical error that appeared in airworthiness directive (AD) AD 2000-19-01 that was published in the Federal Register on September 20, 2000 (65 FR 56780). The typographical error resulted in failure to reference an acceptable method of compliance for a certain requirement. This AD is applicable to certain Bombardier Model CL-600-1A11 (CL-600) and CL-600-2A12 (CL-601) series airplanes. This AD requires modification of the main landing gear (MLG) brake units and inboard MLG wheels; and a revision to the Airplane Flight Manual (AFM) to include the increased cooling times for the modified brakes. This AD allows, for certain cases, removal of the inboard and/or outboard wheel discs by installation of a placard to limit airplane operation on the ground and a revision to the AFM to include information for operating the airplane with the wheel discs removed. Additionally, this AD provides for an acceptable method of compliance that involves installation of a new revision to the AFM.

DATES: Effective October 25, 2000.

FOR FURTHER INFORMATION CONTACT: James E. Delisio, Aerospace Engineer, Airframe and Propulsion Branch, ANE-171, FAA, New York Aircraft Certification Office, 10 Fifth Street, Third Floor, Valley Stream, New York 11581; telephone (516) 256-7521; fax (516) 568-2716.

SUPPLEMENTARY INFORMATION: Airworthiness Directive (AD) 2000-19-01, amendment 39-11902, applicable to certain Bombardier Model CL-600-1A11 (CL-600) and CL-600-2A12 (CL-601) series airplanes, was published in the Federal Register on September 20, 2000 (65 FR 56780). That AD requires modification of the main landing gear (MLG) brake units and inboard MLG wheels; and a revision to the Airplane Flight Manual (AFM) to include the increased cooling times for the modified brakes. That AD allows, for certain cases, removal of the inboard and/or outboard wheel discs by installation of a placard to limit airplane operation on the ground and a revision to the AFM to include information for operating the airplane with the wheel discs removed. Additionally, that AD provides for an acceptable method of compliance that involves installation of a new revision to the AFM.

As published, paragraph (d) of the existing AD specifies that installation of a specific AFM revision is acceptable for compliance with the requirements of paragraphs (a) and (b) of that AD. The FAA inadvertently did not specify that installation of a specific AFM revision is also acceptable for compliance with the requirements of paragraph (c) of that AD.

Since no other part of the regulatory information has been changed, the final rule is not being republished.

The effective date of this AD remains October 25, 2000.

§ 39.13 [Corrected]

On page 56782, in the second column, paragraph (d) of AD 2000-19-01 is corrected to read as follows:

* * * * *

(d) For all airplanes: Installation of the AFM revision specified in either paragraph (d)(1) or (d)(2) of this AD, as applicable, is acceptable for compliance with the requirements of paragraphs (a), (b), and (c) of this AD, as applicable.

(1) Bombardier Model CL-600-1A11 (CL-600) AFM Revisions A84 and 76, both dated February 7, 2000; or

(2) Bombardier Model CL600-2A12 (CL-601) AFM Revisions 45, 48, 50, and 86, all dated February 7, 2000.

* * * * *

Issued in Renton, Washington, on October 2, 2000.
Donald L. Riggin,
Acting Manager, Transport Airplane Directorate, Aircraft Certification Service.

[FR Doc. 00-25684 Filed 10-5-00; 8:45 am]

BILLING CODE 4910-13-P